Notice of June 15, 2004

Notice of Intention To Enter Into a Free Trade Agreement With Bahrain

Consistent with section 2105(a)(1)(A) of the Trade Act of 2002, I have notified the Congress of my intention to enter into a free trade agreement with the Kingdom of Bahrain.

Consistent with section 2105(a)(1)(A) of that Act, this notice shall be published in the Federal Register.

B

THE WHITE HOUSE,

June 15, 2004.

[FR Doc. 04-13979

Filed 6-17-04; 8:45 am]

Billing code 3195-01-P